DEPARTMENT OF JUSTICE

Bureau of Justice Statistics

[OJP (BJS)-1342]

2002 Census of Publicly Funded Forensic Crime Laboratories

AGENCY: Bureau of Justice Statistics, Office of Justice Programs, Justice.

ACTION: Notice of solicitation.

SUMMARY: The purpose of this notice is to announce a public solicitation to obtain a data collection agent for the 2002 Census of Publicly Funded Forensic Crime Laboratories.

DATES: Proposals must be received at the Bureau of Justice Statistics (BJS) on or before 5 p.m. EST, February 8, 2002 or be postmarked on or before February 8, 2002.

ADDRESSES: Proposals should be mailed to Application Coordinator, Bureau of Justice Statistics, 810 Seventh Street, NW, Washington, DC 20531; (202) 616-3497.

FOR FURTHER INFORMATION CONTACT: Greg W. Steadman, Statistician, Bureau of Justice Statistics, 810 Seventh Street, NW, Washington, DC 20531; Phone (202) 616-3284 [This is not a toll free number]; E-mail: Greg.Steadman@usdoj.gov.

SUPPLEMENTARY INFORMATION:

Statutory Authority

The awards made pursuant to this solicitation will be funded by the Bureau of Justice Statistics consistent with the provisions of 42 U.S.C. 3732.

Program Goals

The purpose of this award is to provide funding to administer the 2002 Census of Publicly Funded Forensic Crime Laboratories. The survey will obtain baseline information about the workload and operations of the approximately 400 forensic crime laboratories in the United States. Special emphasis will be made to identify the specific activities and resources to support forensic analysis within each laboratory including: personnel, budget, workload, and agencies for which analyses are performed and results reported. The initial draft survey instrument and roster of agencies list will be provided by BJS.

BJS anticipates making the award for a 12 month period under this solicitation. A total of up to $250,000 will be made available to complete the project pending OMB clearance and availability of FY 2002 appropriations.

Background

The implementation of the 2002 Census of Publicly Funded Forensic Crime Laboratories is part of a continuing effort by BJS to expand statistical activities related to forensic crime laboratories. With the many recent advances in analysis and use of deoxyribonucleic acid (DNA) evidence by law enforcement agencies, attention has been focused on the improvement of DNA capabilities. The U.S. Department of Justice is now expanding crime laboratory support to all forensic disciplines beyond DNA that constitute the vast majority of physical evidence submitted for analysis in our nation's public laboratories.

Though information is available through previous surveys such as BJS' Survey of DNA Crime Laboratories, 1998 and Federal Bureau of Investigation's CODIS Survey of DNA Laboratories, that information is primarily limited to laboratories performing DNA analyses. The American Society of Crime Lab Directors (ASCLD) also collects information limited to their membership with an annual management survey. Baseline information about all publicly funded forensic crime laboratories has not been collected on a national level.

The goal of this survey is to provide baseline statistical information on the operations and workload of publicly funded forensic crime laboratories operating in the United States in order to improve the Nation's understanding of the level of work performed and resources committed to criminal forensic science analyses. The information will be useful for Federal, State and local governments to assess the areas in which additional resources for development, improvement or expansion of forensic capabilities are necessary. The information will also assist State and local laboratories in identifying technology disparities across laboratories and targeting equipment, supplies, training and technical assistance to such labs from programs such as the Crime Laboratory Improvement Program (CLIP) administered by the National Institute of Justice (NIJ).

Eligibility Requirements

Both profit making and nonprofit organizations may apply for funds. Consistent with OJP fiscal requirements, however, no fees may be charged against the project by profit-making organizations.

Scope of Work

The objective of this project is to complete data collection for the 2002 Census of Publicly Funded Forensic Crime Laboratories. This includes extensive follow up, data verification, coding and data entry, and delivery of a final dataset and documentation. The initial survey instrument and respondent list will be provided by BJS. Specifically, the recipient of funds will:

1. Develop a detailed timetable for each task in the project. Data collection should begin within three months of the project start and be completed within nine months. After the BJS project manager has agreed to the timetable, all work must be completed as scheduled.

2. Provide a final review of the survey instrument drafted by BJS for form and content.

3. Verify the names, addresses, and appropriate contact from the respondent list provided by BJS. The most current American Society of Crime Lab Directors list will comprise the respondent list for this project.

4. Conduct a pre-test of the survey instrument in a minimum of four sites to assure that survey items are perceived by respondents as intended and can be provided in a timely manner.

5. Mail surveys to respondents and provide extensive follow up to respondents that require help, clarification, or encouragement to complete the survey. This may involve multiple follow up telephone calls, re-mailing or re-faxing surveys, email correspondence, and site visits where necessary.

6. Implement and maintain an automated tracking system to provide ongoing status of each survey respondent, complete documentation, and an inventory of follow up communication and procedures for each case. This automated tracking system should be current and be accessible to the BJS project monitor at all times.

7. Identify techniques necessary to achieve a 100% survey item response rate. The data collection agent will have routine contact with the laboratories and must be knowledgeable of the various areas of forensic science analysis, laboratory organization and relations with various components of the criminal justice system.

8. Deliver to BJS electronic versions of the survey data, and documentation on diskette and in ASCII file format. Survey documentation should include, but is not limited to, a comprehensive codebook detailing variable positions, data coding, variable name and value labels, any recoding implemented during the data cleaning process, methods used for dealing with missing data, any data allocations, imputation, or non-response adjustments, and copies of all program code used to generate data or published statistics. All data and documentation from this survey will be posted on the BJS website, and data archived at the Inter-University Consortium for Political and Social Research (ICPSR).

Award Procedures and Evaluation Criteria

Proposals should describe the plan and implementation strategies outlined in the Scope of Work. Information on staffing levels and qualifications should be included for each task and descriptions of experience relevant to the project. Resumes of the proposed project director and key staff should be enclosed with the proposal.

Applications will be reviewed competitively with the final award decision made by the Director of BJS. The applicant will be evaluated on the basis of:

1. Demonstrated knowledge of applied survey research, including survey construction, interview techniques, data collection, data coding, entry and verification, and the production of public use data files. This includes availability of an adequate computing environment, knowledge of standard social science data processing software, and demonstrated ability to produce SPSS readable data files for analysis and report production.

2. Demonstrated ability and experience in collecting data in criminal justice departments and offices at State and local government levels.

3. Availability of subject matter expert with knowledge of the areas of forensic science analyses, forensic laboratory operational and legal issues, and logistical impediments to implementing surveys in publicly funded laboratories. Applicants must demonstrate the ability to collect data from both centralized laboratory systems, with a single office responsible for administration of multiple laboratories, and decentralized systems with administrative units within the various facilities.

4. Demonstrated fiscal, management, staff, and organizational capacity to provide sound management for this project. Applicant should include detailed staff resources and other costs by project tasks.

Application and Award Process

• An original and two (2) copies of the full proposal must be submitted including:

• Standard Form 424, Application for Federal Assistance

• OJP Form 7150/1, Budget Detail Worksheet

• OJP Form 4000/3, Program Narrative and Assurances

• OJP Form 4061/6, Certification regarding Lobbying, Debarment, Suspension, and Other Responsibility Matters; Drug Free Workplace requirements

• OJP Form 7120-1, Accounting System and Financial Capability Questionnaire (to be submitted by applicants who have not previously received Federal Funds from the Office of Justice Programs).

These forms can be obtained online from www.ojp.usdoj.gov/forms.htm.

In addition, fund recipients are required to comply with regulations designed to protect human subjects and ensure confidentiality of data. In accordance with 28 CFR Part 22, a Privacy Certificate must be submitted to BJS. Furthermore, a Screening Sheet for Protection of Human Subjects must be completed prior to the award being issued. Questions regarding Protection of Human Subjects and/or Privacy Certificate requirements can be directed to the Human Subjects Protection Officer (HSPO) at (202) 616-3282 [This is not a toll free number].

Proposals must include a project description and detailed budget. The project narrative should describe activities as discussed in the Scope of Work and address the evaluation criteria. The project narrative should contain a detailed timeline for project activities, a description of the survey methodology to be used including defined geographic boundaries, data collection method, data entry, and data documentation procedures. The detailed budget must provide detailed cost including salaries of staff involved in the project and the portion of those salaries to be paid from the award, fringe benefits paid to each staff person, travel costs, supplies required for the project, sub-contractual agreements, and other allowable costs. The grant will be made for a period of 12 months.

Dated: December 20, 2001.
Lawrence A. Greenfeld,
Acting Director, Bureau of Justice Statistics.

[FR Doc. 01-32035 Filed 12-28-01; 8:45 am]

BILLING CODE 4410-18-P